FEDERAL COMMUNICATIONS COMMISSION

Notice of Public Information Collection(s) Being Submitted to OMB for Review and Approval

October 29, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 12, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0688.

Title: FCC Form 1235, Abbreviated Cost-of-Service Filing for Cable Network Upgrades.

Form Number: FCC 1235.

Type of Review: Extension of a currently approved collection.

Respondents: Business and other for-profit entities; and State, Local or Tribal Governments.

Number of Respondents: 50.

Estimated Time per Response: 10 to 20 hours.

Frequency of Response: On occasion reporting requirements; third party disclosure.

Total Annual Burden: 750 hours.

Total Annual Costs: None.

Needs and Uses: FCC Form 1235 is an abbreviated cost of service filing for significant network upgrades that allows cable operators to justify rate increases related to capital expenditures used to improve rate-related cable services. The FCC Form 1235 is reviewed by the cable operator's respective local franchise authority.

OMB Control Number: 3060-0009.

Title: Application for Consent to Assignment of Broadcast Station Construction Permit or License or Transfer of Control of Corporation Holding Broadcast Station Construction Permit or License.

Form Number: FCC 316.

Type of Review: Revision of a currently approved collection.

Respondents: Business or other for-profit entities; not-for-profit institutions; and State, Local, or Tribal Governments.

Number of Respondents: 700.

Estimated Time per Response: 1 hour.

Frequency of Response: On occasion reporting requirements.

Total Annual Burden: 700 hours.

Total Annual Costs: $416,000.

Needs and Uses: FCC Form 316 is required when applying for authority for assignment of a broadcast station construction permit or license, or for consent to transfer control of a corporation holding a broadcast station construction permit or license where there is little change in the relative interest or disposition of its interests; where transfer of interest is not a controlling one; where there is no substantial change in the beneficial ownership of the corporation; where the assignment is less than a controlling interest in a partnership; and where there is an appointment of an entity qualified to succeed to the interest of a deceased or legally incapacitated individual permitee, licensee, or controlling stockholder. In addition, the applicant must notify the FCC when approved transfer of control of a broadcast station construction permit or license has been consummated.

OMB Control Number: 3060-0315.

Title: Sponsorship Identification, Sections 76.1615 and 76.1715.

Form Number: N/A.

Type of Review: Revision of a currently approved collection.

Respondents: Business or other for-profit entities.

Number of Respondents: 450.

Estimated Time per Response: 0.5 hours.

Frequency of Response: Recordkeeping; third party disclosure.

Total Annual Burden: 225 hours.

Total Annual Costs: None.

Needs and Uses: 47 CFR Section 76.1615 states that when cable operators originate cablecasting, they must announce at the time of the telecast who is sponsoring the program, unless the money, service, property, etc., is being furnished in connection with or related to the use of the service or property on the cablecast. In the case of political programming advertising candidates for public office, the sponsor shall be identified with letters equal to or greater than four (4) percent of the vertical picture height that air for not less than four (4) seconds. 47 CFR section 76.1715 states that whenever sponsorship announcements are omitted pursuant to Section 76.1615(f), i.e., “want ads” or classified advertisements sponsored by an individual, the cable operator must maintain a list showing the name, address, and (when available) the telephone number of each advertiser and must make this list publicly available.

OMB Control Number: 3060-0311.

Title: Section 76.54, Significantly Viewed Signals; Method to be Followed for Special Showings.

Form Number: N/A.

Type of Review: Extension of a currently approved collection.

Respondents: Business or other for-profit entities.

Number of Respondents: 12.

Estimated Time per Response: 15 hours.

Frequency of Response: On occasion reporting requirements; third party disclosure.

Total Annual Burden: 180 hours.

Total Annual Costs: None.

Needs and Uses: 47 CFR Section 76.54 requires that notice of an audience survey that is conducted by an organization for significantly viewed signal purposes is to be served on all licensees or permittees of television broadcast stations within whose predicted Grade B contour the cable community or communities are located, and all other system community units, franchisees, franchise applicants in the cable community or communities, and the franchise authority. This notification shall be made at least 30 days prior to the initial survey period and include the name of the survey organization and describe the survey's procedures. The notifications provide an opportunity for interested parties to file objections to the survey's methodology.

OMB Control Number: 3060-0061.

Title: Form 325, Annual Report of Cable Television Systems.

Form Number: FCC 325.

Type of Review: Extension of a currently approved collection.

Respondents: Business or other for-profit entities.

Number of Respondents: 1,150.

Estimated Time per Response: 2 hours.

Frequency of Response: Annual reporting requirement.

Total Annual Burden: 2,300 hours.

Total Annual Costs: None.

Needs and Uses: FCC Form 325 is used to solicit basic operational information from all cable systems nationwide, including: the operator's name and address; system-wide capacity and frequency information; channel usage; and the number of subscribers. Operators of every operational cable television system are currently required to complete Form 325 to verify, correct, and/or furnish the FCC with the most current information on their respective cable systems.

OMB Control Number: 3060-0423.

Title: Section 73.3588, Dismissal of Petitions to Deny or Withdrawal of Informal Objections.

Form Number: N/A.

Type of Review: Extension of a currently approved collection.

Respondents: Business or other for-profit entities.

Number of Respondents: 50.

Estimated Time per Response: 20 mins. (0.33 hrs.)

Frequency of Response: On occasion reporting requirement; Third party disclosure.

Total Annual Burden: 17 hours.

Total Annual Costs: $42,500.

Needs and Uses: 47 CFR Section 73.3588 requires a petitioner to obtain approval from the FCC to dismiss or withdraw its petition to deny when it is filed against a renewal application and applications for new construction permits, modifications, transfers, and assignments. This request for approval must contain a copy of any written agreement, an affidavit stating that the petitioner has not received any consideration in excess of legitimate and prudent expenses in exchange for dismissing/withdrawing its petition, and an itemization of the expenses for which it is seeking reimbursement. Each remaining party to any written or oral agreement must submit an affidavit within 5 days of the petitioner's request for approval stating that it has paid no consideration to the petitioner in excess of the petitioner's legitimate and prudent expenses.

OMB Control Number: 3060-0214.

Title: Section 73.3526, Local Public Inspection File of Commercial Stations.

Form Number: N/A.

Type of Review: Extension of a currently approved collection.

Respondents: Business or other for-profit entities.

Number of Respondents: 12,289.

Estimated Time per Response: 1 to 2.5 hours.

Frequency of Response: Recordkeeping; third party disclosure.

Total Annual Burden: 1,379,212 hours.

Total Annual Costs: None.

Needs and Uses: 47 CFR Section 73.3526 requires each licensee/permittee of a commercial AM, FM, or TV broadcast station to maintain a file for public inspection. The contents of the file vary according to type of service and status. The data are used by the public and the FCC staff in field investigations to evaluate information about the station's performance.

Federal Communications Commission.
Marlene H. Dortch,
Secretary.

[FR Doc. 02-28709 Filed 11-8-02; 8:45 am]

BILLING CODE 6712-01-P